DEPARTMENT OF HOMELAND SECURITY

Federal Emergency Management Agency

[Docket ID FEMA-2012-0003; Internal Agency Docket No. FEMA-B-1256]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 3, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1256, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Northampton County, Pennsylvania (All Jurisdictions)
Maps Available for Inspection Online at: http://www.rampp-team.com/pa.htm
Borough of Bangor | Borough Hall, 197 Pennsylvania Avenue, Bangor, PA 18013.
Borough of Bath | Borough Hall, 214 East Main Street, Bath, PA 18014.
Borough of Chapman | Chapman Borough Secretary's Office, 1400 Main Street, Bath, PA 18014.
Borough of East Bangor | Borough Hall, 45 South High Street, East Bangor, PA 18013.
Borough of Freemansburg | Borough Hall, 600 Monroe Street, Freemansburg, PA 18017.
Borough of Glendon | Borough Hall, 24 Franklin Street, Glendon, PA 18042.
Borough of Hellertown | Borough Municipal Building, 685 Main Street, Hellertown, PA 18055.
Borough of Nazareth | Borough Engineer's Office, Keller Consulting Engineers, Inc., 49 East Center Street, Nazareth, PA 18064.
Borough of North Catasauqua | Borough Hall, 1066 4th Street, North Catasauqua, PA 18032.
Borough of Northampton | Borough Municipal Office, 1401 Laubach Avenue, Northampton, PA 18067.
Borough of Pen Argyl | Borough Office, 11-13 North Robinson Avenue, Pen Argyl, PA 18072.
Borough of Portland | Borough Building, 1 Division Street, Portland, PA 18351.
Borough of Roseto | Borough Office, 164 Garibaldi Avenue, Roseto, PA 18013.
Borough of Stockertown | Borough Hall, 209 Main Street, Stockertown, PA 18083.
Borough of Tatamy | Borough Municipal Building, 423 Broad Street, Tatamy, PA 18085.
Borough of Walnutport | Borough Offices, 417 Lincoln Avenue, Walnutport, PA 18088.
Borough of West Easton | Borough Hall, 237 7th Street, West Easton, PA 18042.
Borough of Wilson | Wilson Borough Hall, 2040 Hay Terrace, Easton, PA 18042.
Borough of Wind Gap | Borough Offices, 29 Mechanic Street, Wind Gap, PA 18091.
City of Bethlehem | City Hall, Planning Office, 10 East Church Street, Bethlehem, PA 18018.
City of Easton | Public Services and Engineering Department, 1 South 3rd Street, Easton, PA 18042.
Township of Allen | Allen Township Hall, 4714 Indian Trail Road, Northampton, PA 18067.
Township of Bethlehem | Municipal Building, 4225 Easton Avenue, Bethlehem, PA 18020.
Township of Bushkill | Bushkill Township Hall, 1114 Bushkill Center Road, Nazareth, PA 18064.
Township of East Allen | East Allen Township Offices, 5344 Nor-Bath Boulevard, Northampton, PA 18067.
Township of Forks | Forks Township Hall, 1606 Sullivan Trail, Easton, PA 18040.
Township of Hanover | Hanover Township Engineering Office, 252 Broadhead Road, Suite 100, Bethlehem, PA 18017.
Township of Lehigh | Lehigh Township Municipal Building, 1069 Municipal Road, Walnutport, PA 18088.
Township of Lower Mount Bethel | Lower Mount Bethel Township Hall, 6984 South Delaware Drive, Martins Creek, PA 18063.
Township of Lower Nazareth | Lower Nazareth Township Zoning Administrator's Office, 306 Butztown Road, Bethlehem, PA 18020.
Township of Lower Saucon | Lower Saucon Township Hall, 3700 Old Philadelphia Pike, Bethlehem, PA 18015.
Township of Moore | Moore Township Municipal Building, 2491 Community Drive, Bath, PA 18014.
Township of Palmer | Township Municipal Building, 3 Weller Place, Palmer, PA 18043.
Township of Plainfield | Plainfield Township Hall, 6292 Sullivan Trail, Nazareth, PA 18064.
Township of Upper Mount Bethel | Upper Mount Bethel Township Municipal Building, 387 Ye Olde Highway, Mount Bethel, PA 18343.
Township of Upper Nazareth | Upper Nazareth Township Municipal Building, 100 Newport Avenue, Nazareth, PA 18064.
Township of Washington | Washington Township Hall, 1021 Washington Boulevard, Bangor, PA 18013.
Township of Williams | Williams Township Municipal Building, 655 Cider Press Road, Easton, PA 18042.
Lincoln County, West Virginia, and Incorporated Areas
Maps Available for Inspection Online at: https://www.rampp-team.com/wv.htm
Town of Hamlin | Town Hall, 220-1 Main Street, Hamlin, WV 25523.
Town of West Hamlin | Town Hall, 6649 Guyan Street, West Hamlin, WV 25571.
Unincorporated Areas of Lincoln County | Lincoln County Courthouse, 497 Court Avenue, Hamlin, WV 25523.

(Catalog of Federal Domestic Assistance No. 97.022, “Flood Insurance.”)

Sandra K. Knight,
Deputy Associate Administrator for Mitigation, Department of Homeland Security, Federal Emergency Management Agency.

[FR Doc. 2012-16362 Filed 7-3-12; 8:45 am]

BILLING CODE 9110-12-P